DEPARTMENT OF COMMERCE

National Oceanic and Atmospheric Administration

50 CFR Part 679

[Docket No. 130925836-4320-03]

RIN 0648-XC895

Fisheries of the Exclusive Economic Zone Off Alaska; Gulf of Alaska; Final 2014 and 2015 Harvest Specifications for Groundfish; Correction

AGENCY: National Marine Fisheries Service (NMFS), National Oceanic and Atmospheric Administration (NOAA), Commerce.

ACTION: Final rule; harvest specifications and closures; correction.

SUMMARY: The National Marine Fisheries Service (NMFS) is correcting a final rule that published on March 6, 2014, implementing the final 2014 and 2015 harvest specifications and prohibited species catch allowances for the groundfish fishery of the Gulf of Alaska. One table in the document contained errors.

DATES: Effective April 15, 2014.

FOR FURTHER INFORMATION CONTACT: Obren Davis, 907-586-7228.

SUPPLEMENTARY INFORMATION:

Need for Correction

NMFS published the Gulf of Alaska (GOA) final 2014 and 2015 harvest specifications in the Federal Register on March 6, 2014 (79 FR 12890). A table providing information about the 2014 GOA non-exempt American Fisheries Act (AFA) catcher vessel (CV) halibut prohibited species catch (PSC) limits by season and fishery (Table 24) contained incorrect amounts in the columns titled “2014 PSC Limit” and “2014 Non-exempt AFA CV PSC limit,” respectively. In Table 24 on page 12910, NMFS inadvertently included the 2014 PSC limits and 2014 non-exempt AFA CV PSC limits that were included in the proposed 2014 and 2015 harvest specifications (see Table 15, 78 FR 74094, December 10, 2013). These halibut PSC limits were reduced by Amendment 95 to the Fishery Management Plan for Groundfish of the GOA (Amendment 95) (79 FR 9625, February 20, 2014).

The corrections to the halibut PSC limits in Table 24 that will be made by this action incorporate a 7 percent reduction from the halibut PSC limits that were in effect in 2013. Specifically, the shallow-water fishery's seasonal halibut PSC limits are reduced to 416 metric tons (mt), 92 mt, 185 mt, and 139 mt from 444 mt, 99 mt, 197 mt, and 148 mt, respectively. The corresponding non-exempt AFA CV PSC limits are reduced to 141 mt, 31 mt, 63 mt, and 47 mt from 151 mt, 34 mt, 67 mt, and 50 mt, respectively. The deep-water fishery's seasonal halibut PSC limits are reduced to 92 mt, 277 mt, and 370 mt from 99 mt, 296 mt, and 395 mt, respectively. The corresponding non-exempt AFA CV PSC limits are reduced to 6 mt, 19 mt, and 26 mt from 7 mt, 21 mt, and 28 mt, respectively. The fifth season halibut PSC limit, which is not apportioned by shallow-water or deep-water target fishery, is reduced to 277 mt from 296 mt. The corresponding non-exempt AFA CV PSC limit is reduced to 57 mt from 61 mt.

NMFS anticipates that this correction will not affect the fishing operations of the non-exempt AFA CVs that are subject to these halibut PSC limits. This is because of the relatively low amount of halibut PSC caught by non-exempt AFA CV's in 2013, and the small amount of halibut PSC caught by these vessel through March 2014. The unintended omission of halibut PSC reductions in Table 24 was an error resulting from a regulatory reorganization involving two separate final rules. These corrections are necessary to provide the correct 2014 halibut PSC limits and non-exempt AFA CV halibut PSC limits and eliminate potential confusion among participants in the GOA groundfish fisheries.

Classification

The Assistant Administrator for Fisheries, NOAA (AA), finds good cause to waive the requirement to provide prior notice and opportunity for public comment pursuant to the authority set forth at 5 U.S.C. 553(b)(B) as such requirement is impracticable and contrary to the public interest. This correcting amendment makes changes to correct the unintentional omission of the halibut PSC reductions in Table 24, as described above, and does not change operating practices in the fisheries. If this correction is delayed to allow for notice and comment, it would result in confusion for participants in the fisheries, given that the final rule implementing Amendment 95 is effective. Therefore, in order to avoid any negative consequences that could result from this error, the AA finds good cause to waive the requirement to provide prior notice and opportunity for public comment.

The AA also finds good cause to waive the 30-day delay in the effective date of this action under 5 U.S.C. 553(d)(3). This correcting amendment makes only minor changes to correct the unintentional omission of the halibut PSC reductions in Table 24, and does not change operating practices in the fisheries. This correction would also avoid any confusion for participants in the fisheries, given that the final rule implementing Amendment 95 is effective. For these reasons, the AA finds good cause to waive the 30-day delay in the effective date of this action.

Authority: 16 U.S.C. 773 et seq.; 16 U.S.C. 1540(f), 1801 et seq.; 16 U.S.C. 3631 et seq.; Pub. L. 105-277; Pub. L. 106-31; Pub. L. 106-554; Pub. L. 108-199; Pub. L. 108-447; Pub. L. 109-241; Pub. L 109-479.

Correction

In the final rule published on March 6, 2014 (79 FR 12890), the following corrections are made to Table 24:

On page 12910, in Table 24, columns 5 and 6 are corrected to incorporate the correct amounts for 2014 PSC limits and 2014 non-exempt AFA CV PSC limits, respectively.

Table 24 is corrected and reprinted in its entirety to read as follows:

Table 24—Final 2014 Non-Exempt AFA CV Halibut Prohibited Species Catch (PSC) Limits for Vessels Using Trawl Gear in the GOA
[Values are rounded to nearest metric ton]
Season | Season dates | Target fishery | Ratio of 1995- 1997 non-exempt AFA CV retained catch to total retained catch | 2014 PSC limit | 2014 non-exempt AFA CV PSC limit
1 | January 20 | shallow-water | 0.340 | 416 | 141
| April 1 | deep-water | 0.070 | 92 | 6
2 | April 1 | shallow-water | 0.340 | 92 | 31
| July 1 | deep-water | 0.070 | 277 | 19
3 | July 1 | shallow-water | 0.340 | 185 | 63
| September 1 | deep-water | 0.070 | 370 | 26
4 | September 1 | shallow-water | 0.340 | 139 | 47
| October 1 | deep-water | 0.070 | 0 | 0
5 | October 1 | all targets | 0.205 | 277 | 57
| December 31. |  |  |  |

Dated: April 9, 2014.
Samuel D. Rauch III,
Deputy Assistant Administrator for Regulatory Programs, National Marine Fisheries Service.

[FR Doc. 2014-08391 Filed 4-14-14; 8:45 am]

BILLING CODE 3510-22-P